DEPARTMENT OF TRANSPORTATION

Bureau of Transportation Statistics

Agency Pilot Program; Activity Under Review; T-100 Traffic Reporting by Alaskan Mail Air Carriers

AGENCY: Bureau of Transportation Statistics (BTS), DOT.

ACTION: Notice.

SUMMARY: At a September 15, 2004, joint meeting, representative Alaskan air carriers, the United States Postal Service (USPS), and the Department of Transportation's (DOT) Bureau of Transportation Statistics (BTS) and Office of Secretary, agreed to develop a pilot program for collecting weekly T-100 data, in an effort to reduce air carrier reporting burden.

Currently, air carriers transporting non-priority bypass mail pursuant to the Rural service Improvement act (RSIA) are required to submit monthly T-100 traffic reports to BTS and daily activity reports to USPS, which uses the daily report to monitor air carrier compliance with RSIA's requirements that air carriers provide service at least three days a week and exhibit adherence to those scheduled flights. Some carriers hired additional staff to complete the daily activity reports. If BTS adds two new data elements to the T-100 report and requires weekly submissions (due within 7 days after weeks end), both DOT's and USPS” data needs can be met. The two new data elements are: (1) Actual Day of Flight: the numeric day of the month in which the flight was flown; and (2) Aircraft Certification: A code to identify the type of mail operation, i.e., Bush Part 121, Bush Part 135, Bush Amphibious or Mainline.

The pilot program will start on November 1, 2004. The carriers that participate in the pilot program will be relieved of the requirement to submit daily activity reports to USPS. If all parties are satisfied with the new data reporting, the pilot program will end with respect to data for December 31, 2004, and thereafter all Alaskan air carriers will be required to submit the weekly T-100 reports in lieu of the USPS daily activity reports.

A representative sample of Alaskan air carriers (anticipated to comprise no more than nine) will be selected from those who volunteer. Carriers may volunteer for the program by contacting Ms. Jennifer Fabrizi at Jennifer.fabrizi@bts.gov or (202) 366-8513 no sooner than the publication date of this notice and no later than October 29, 2004.

DATES: Written comments on the pilot program should be submitted by November 15, 2004.

ADDRESSES: Comments should be directed to: Office of Airline Information, K-25, Room 4125, Bureau of Transportation Statistics, 400 Seventh Street, SW., Washington, DC 20590-0001, FAX NO. (202) 366-3383 or EMAIL bernard.stankus@bts.gov.

Comments: Comments should identify the T-100 Pilot Program. Persons wishing the BTS to acknowledge receipt of their comments must submit with those comments a self-addressed stamped postcard on which the following statement is made: Comments on OMB # 2138-0013. The postcard will be date/time stamped and returned.

FOR FURTHER INFORMATION CONTACT: Bernie Stankus Office of Airline Information, K-25, Room 4125, Bureau of Transportation Statistics, 400 Seventh Street, SW., Washington, DC 20590-0001, (202) 366-4387.

SUPPLEMENTARY INFORMATION:

1. Background

Alaskan air carriers, who carry non priority bypass mail for the U.S. Postal Service, which currently report “daily” to the USPS, will have one submission requirement to the USDOT/BTS/Office of Airline Information; “Daily” Carrier data submissions to USPS will no longer be required. BTS believes that there may be several advantages to weekly reporting. First, for the air carriers, the total reporting burden will be reduced as carriers will not be required to submit daily data to the USPS and second, for USPS, the agency will be to cease its air carrier data collections and it will have more timely data for mail tender. In addition to collecting data and transmitting it to the USPS on a weekly basis, BTS will combine the weekly data submissions to produce the standard T-100 monthly traffic reports in the format currently being released today. The new data items, date of flight and certification code, will not be included in the BTS products, on the BTS web page and publications sold to the general public. The air carriers requested that BTS share the additional data only with the USPS because the data is viewed as competitive sensitive.

2. New Reporting Requirements

Alaskan Air Carriers, who carry non priority bypass mail for the U.S. Postal Service, will submit T-100 Market and T-100 Segment records, weekly, to USDOT/BTS/Office of Airline Information (OAI)—covering a 7-day period, defined as Saturday through Friday. The T-100 Data will be due in to BTS/OAI, 7 days after the end of the period. BTS is establishing a secure password protected line for submitting pilot program data. Additional data elements will be added to the T-100 data formats:

• Actual Date of Flight field to Segment records.

• Actual Date of Flight field to Market records.

• Aircraft Certification Code field to Segment records.

Aircraft Certification Code values:

121—Bush Part 121

135—Bush Part 135

AMPH—Bush Part 135 or 121 Amphibious

MAIN—Mainline

For purposes of monitoring carrier flight performance, the USPS will receive weekly Carrier Segment reports containing all scheduled service records, from the BTS/OAI, within 4 days after initial carrier submissions are due (i.e. 7 days of flight performance reported to BTS/OAI within 7 days after the end of the period, and subsequently forwarded to USPS within the next 4 days). BTS/OAI will process the weekly reports as they are received and confer with carriers concerning suspect or erroneous data and any needed re-submissions. BTS/OAI will consolidate the weekly reports into the monthly final “Products” for release to the public and to the USPS for calculation of mail tender in accordance with RSIA. Market shares will continue to be calculated monthly for “re-casting” of RSIA air carrier mail pools.

Administrative actions for not submitting weekly reports on a timely basis will be defined by BTS/USPS and could include USPS withholding of mail tender until the air carrier corrects the reporting situation. Administrative actions for not reporting corrected data to BTS in a timely manner will be defined by BTS and could include BTS withholding carrier data from final monthly release of statistics to USPS.

3. The “Pilot Program”

The new reports will start on a trial basis with a group selected from volunteer Alaskan air carriers while BTS confers with OMB on paperwork burden and other information collection issues. BTS will identify an initial group of Alaskan air carriers to begin testing from the group of carriers who have volunteered to participate in the pilot program as described in the Summary. Beginning with November 2004 data, the selected Alaskan air carriers will report T-100 Market and Segment data to the Office of Airline Information (OAI) weekly. The carriers will have 7 days to report a week's worth of T-100 data to OAI. The intent of the pilot program is to decrease air carrier reporting burden.

OAI will compile all Segment data, for all of the Carriers, on that next Monday (except for Federal holidays) and transmit the Segment Data to USPS through the process currently used for sending the Monthly USPS T-100 Market and Segment Products to USPS.

It should be noted that all Alaskan air carriers, including carriers selected for the pilot program, must report their October 2004 T-100 data to OAI by November 30th, per the current reporting requirements. Until the new T-100 reporting is fully implemented for ALL Alaskan air carriers who carry non priority bypass mail, the USPS will continue to receive its “Monthly Products” per the current schedule.

Pilot Program Schedule
Week number | Report period | Date/time report is due into OAI | Date OAI will compile a segment file, containing scheduled service | Date USPS will receive data needed to verify compliance
Week One | First Submission: Data will be for five (5) days, Monday, 11/1/2004 through Friday, 11/5/2004 | This first submission will be a partial week of data. Due into OAI by Midnight (EST), Sunday, 11/14/2004 | Monday, 11/15/2004 | Monday, 11/15/2004—ten (10) days after the week ending 11/5/2004.
Week Two | Saturday, 11/6/2004 through Friday, 11/12/2004 | Due into OAI by Midnight (EST), Sunday, 11/21/2004 | Monday, 11/22/2004 | Monday, 11/22/2004—ten (10) days after the week ending 11/12/2004.
Week Three | Saturday, 11/13/2004 through Friday, 11/19/2004 | Due into OAI by Midnight (EST), Sunday, 11/28/2004 | Monday, 11/29/2004 | Monday, 11/29/2004—ten (10) days after the week ending 11/12/2004.
Week Four | Saturday, 11/20/2004 through Friday, 11/26/2004 | Due into OAI by Midnight (EST), Sunday, 12/5/2004 | Monday, 12/6/2004 | Monday, 12/6/2004—ten (10) days after the week ending 11/26/2004.
Week Five | Saturday, 11/27/2004 through Friday, 12/3/2004 | Due into OAI by Midnight (EST), Sunday, 12/12/2004 | Monday, 12/13/2004 | Monday, 12/13/2004—ten (10) days after the week ending 12/3/2004.
Week Six | Saturday, 12/4/2004 through Friday, 12/10/2004 | Due into OAI by Midnight (EST), Sunday, 12/19/2004 | Monday, 12/20/2004 | Monday, 12/20/2004—ten (10) days after the week ending 12/10/2004.
Week Seven | Saturday, 12/11/2004 through Friday, 12/17/2004 | Because Friday, 12/24/2004 is a Federal Holiday, data will be due into OAI by Midnight (EST), Monday, 12/27/2004 | Tuesday, 12/28/2004 | Tuesday, 12/28/2004—eleven (11) days after the week ending 12/17/2004.
Week Eight | Saturday, 12/18/2004 through Friday, 12/24/2004 | Because Friday, 12/31/2004 is a Federal Holiday, data will be due into OAI by Midnight (EST), Monday, 1/3/2005 | Tuesday, 1/4/2005 | Tuesday, 1/4/2005—eleven (11) days after the week ending 12/24/2004.
Week Nine | Saturday, 12/25/2004 through Friday, 12/31/2004 | Due into OAI by Midnight (EST), Sunday, 1/9/2005 | Monday, 1/10/2005 | Monday, 1/10/2005—ten (10) days after the week ending 12/31/2004.
| Beginning with the JANUARY 2005 data, if all issues regarding the new reporting procedures are resolved, ALL Alaskan air carriers (who carry mail) will commence reporting T-100 Market and Segment data.
Week Ten | Saturday, 1/1/2004 through Friday, 1/7/2004 | Due into OIA by Midnight (EST), Sunday, 1/16/2005 | Because Monday, 1/17/2004 is a Federal Holiday, OAI will compile the Segment data on Tuesday, 1/18/2005 | Tuesday, 1/18/2005—eleven (11) days after the week ending 1/7/2004.

T-100 SEGMENT FILE—NAMING CONVENTION and FILE TYPE

The Segment File naming convention is “CC_SegCCYY_MM_DD.csv” where:

CC—Carrier Alpha Code

Seg—Indicates that file contains segment data

CCYY—4 digit year

MM—Month

DD—Week Ending—Friday

.csv—comma separated variable file type.

(Note: The .csv extension indicates a comma separated variable file type—where commas separate each value in a record.)

Example: NC_Seg2004_11_05.csv =

NORTHERN AIR CARGO Segment data for week ending November 5, 2004

The first “record” listed below indicates each of the fields in the records that follow. There are sixteen (16) data records in the sample file below. Each data value is separated by a comma.

Sample Segment file submission for: NC_Seg2004_11_05.csv

DATA TYPE, ENTITY CODE, YEAR, MONTH, ACTUAL DAY OF FLIGHT,

ORIG AIRPORT, DEST AIRPORT, SERVICE CLASS,

AIRCRAFT TYPE, CABIN CONFIG,

DEPARTURES PERF, AVAILABLE PAYLOAD, AVAILABLE SEATS,

SEG PASSENGERS, SEG FREIGHT, SEG MAIL,

SCHED DEPARTURES, R TO R MINUTES, AIRB MINUTES, AIRCRAFT CONFIG

S,6721,2004,10,29,ANC,FAI,G,216,2,5, 134400,0,0,37589,19299,,447,343,121

S,6721,2004,10,29,ANC,FAI,G,711,2,18, 696474,0,0,177887,121440,21,937,724, 121

S,6721,2004,10,30,ANC,FAI,G,216,2,5, 134400,0,0,37589,19299,,447,343,121

S,6721,2004,10,30,ANC,FAI,G,711,2,18, 696474,0,0,177887,121440,21,937,724, 121

S,6721,2004,10,31,ANC,FAI,G,216,2,5, 134400,0,0,37589,19299,,447,343, 121

S,6721,2004,10,31,ANC,FAI,G,711,2,18, 696474,0,0,177887,121440,21,937,724, 121

S,6721,2004,11,1,ANC,FAI,G,216,2,5, 134400,0,0,37589,19299,,447,343, 121

S,6721,2004,11,1,ANC,FAI,G,711,2,18, 696474,0,0,177887,121440,21,937,724, 121

S,6721,2004,11,2,ANC,FAI,G,216,2,5, 134400,0,0,37589,19299,,447,343, 121

S,6721,2004,11,2,ANC,FAI,G,711,2,18, 696474,0,0,177887,121440,21,937,724, 121

S,6721,2004,11,3,ANC,FAI,G,216,2,5, 134400,0,0,37589,19299,,447,343, 121

S,6721,2004,11,3,ANC,FAI,G,711,2,18, 696474,0,0,177887,121440,21,937,724, 121

S,6721,2004,11,4,ANC,FAI,G,216,2,5, 134400,0,0,37589,19299,,447,343, 121

S,6721,2004,11,4,ANC,FAI,G,711,2,18, 696474,0,0,177887,121440,21,937,724, 121

S,6721,2004,11,5,ANC,FAI,G,216,2,5, 134400,0,0,37589,19299,,447,343, 121

S,6721,2004,11,5,ANC,FAI,G,711,2,18, 696474,0,0,177887,121440,21,937,724, 121

T-100 SEGMENT FILE.—RECORD LAYOUT AND FIELD DESCRIPTION
| Field name | Field length | Data type | Description
1 | Data Type | 1 | Character | “S” is used for segment data.
2 | Entity Code | 5 | Character | A five-character code assigned to each air carrier that is used primarily for DOT reporting purposes. It is used to separate the Domestic, Atlantic, Latin America, and Pacific operations of each air carrier.
3 | Reporting Year | 4 | Numeric | Format: CCYY = century and year.
4 | Reporting Month | Up to 2 | Numeric | Format: MM: 1 = January * * * 12 = December.
5 | Actual Day of Flight | Up to 2 | Numeric | The numeric day of the month in which the flight was flown Format DD: * * * 1 = day one of the month * * * 31 = day thirty-one of the month.
6 | Origin Airport | 3 | Character | The three letter code identifying the airport. The airport codes are recognized by the International Air Transport Association (IATA), as used in all of the major airline reservation systems—OR—when there is no IATA code for an origin airport/point—contact the BTS/Office of Airline Information, and one will be assigned.
7 | Destination Airport | 3 | Character | The three letter code identifying the airport. The airport codes are recognized by the International Air Transport Association (IATA), as used in all of the major airline reservation systems—OR—when there is no IATA code for the destination airport/point—contact the BTS/Office of Airline Information, and one will be assigned.
8 | Service Class | 1 | Character | Refers to the class of service used.: F—Scheduled Passenger/Cargo Service; G—Scheduled All Cargo Service; L—Non-Scheduled Civilian Passenger/Cargo Service; P—Non-Scheduled Civilian All Cargo Service; N—Non-Scheduled Military Passenger/Cargo Service; R—Non-Scheduled Military All Cargo Service.
9 | Aircraft Type | 3 | Number | Type of aircraft used on the non-stop segment.
10 | Cabin Configuration | 1 | Number | This code indicates the type of configuration: 1—Passenger; 2—Cargo; 3—Passenger/Cargo; 4—Amphibious.
11 | Departures Performed | Up to 5 | Number | The number of revenue aircraft departures performed in revenue scheduled service.
12 | Available Payload | Up to 10 | Number | Reflects total available capacity in pounds for passengers, freight, and mail applicable to the aircraft with which this flight is performed.
13 | Available Seats | Up to 7 | Number | Reflects the actual number of seats for sale, excluding those blocked for safety or operational reasons.
14 | Segment Passengers | Up to 10 | Number | Number of passengers originating (enplaning) the flight at the origin airport of the segment and terminating (deplaning) the flight at the destination airport of the segment.
15 | Segment Freight | Up to 10 | Number | Amount of Freight—in pounds—originating (enplaning) the flight at the origin airport of the segment and terminating (deplaning) the flight at the destination airport of the segment.
16 | Segment Mail | Up to 10 | Number | Amount of Mail—in pounds—originating (enplaning) the flight at the origin airport of the segment and terminating (deplaning) the flight at the destination airport of the segment.
17 | Scheduled Departures | Up to 5 | Number | The number of aircraft departures scheduled, whether or not actually performed.
18 | Ramp to Ramp Minutes | Up to 10 | Number | Is the total elapsed time computed from the moment the aircraft moves under its own power until it comes to rest at the next point of landing.
19 | Airborne Time | Up to 10 | Number | Is the elapsed time computed from the moment the aircraft leaves the ground until it touches down at the next point of landing.
20 | Aircraft Certification | Up to 4 | Character | This 3 or 4 character code indicates the type of Certification: 121—121 (wheels); 135—135 (wheels); AMPH—135 or 121 Amphibious; MAIN—Mainline.

T-100 MARKET FILE—NAMING CONVENTION and FILE TYPE

The Market File naming convention is “CC_Mkt_MM_DD.csv” where:

CC—Carrier Alpha Code

Mkt—Indicates that file contains market data

CCYY—4 digit year

MM—Month

DD—Week Ending—Friday

.csv—comma separated variable file type.

(Note: The .csv extension indicates a comma separated variable file type—where commas separate each value in a record.)

Example: NC_Mkt2004_11_05.csv =

NORTHERN AIR CARGO Market data for week ending November 5, 2004

The first “record” listed below indicates each of the fields in the records that follow. There are eight (8) data records in the sample file below. Each data value is separated by a comma.

Sample Market File Submission for: NC_Mkt2004_11_05.csv

DATA TYPE, ENTITY CODE

YEAR, MONTH, ACTUAL DAY OF FLIGHT

ORIG AIRPORT, DEST AIRPORT, SERVICE CLASS,

MKT PAX, MKT FREIGHT, MKT MAIL

M,6721,2004,10,29,ANC,FAI,G,0,32724, 140739

M,6721,2004,10,30,ANC,FAI,G,0,32500, 140650

M,6721,2004,10,31,ANC,FAI,G,0,32720, 140725

M,6721,2004,10,1,ANC,FAI,G,0,32600, 140690

M,6721,2004,10,2,ANC,FAI,G,0,32730, 140732

M,6721,2004,10,3,ANC,FAI,G,0,32700, 140754

M,6721,2004,10,4,ANC,FAI,G,0,32740, 140736

M,6721,2004,10,5,ANC,FAI,G,0,32400, 140738

T-100 MARKET FILE.—RECORD LAYOUT AND FIELD DESCRIPTION
| Field name | Field length | Data type | Description
1 | Data Type | 1 | Character | “M” is used for market data.
2 | Entity Code | 5 | Character | A five-character code assigned to each air carrier that is used primarily for DOT reporting purposes. It is used to separate the Domestic, Atlantic, Latin America, and Pacific operations of each air carrier.
3 | Year | 4 | Numeric | Format: CCYY = century and year.
4 | Month | 2 | Numeric | Format: MM: 01 = January * * * 12 = December.
5 | Actual Day of Flight | Up to 2 | Numeric | The numeric day of the month in which the flight was flown, Format DD: * * * 1 = day one of the month * * * 31 = day thirty-one of the month.
6 | Origin Airport | 3 | Character | The three letter code identifying the airport. The airport codes are recognized by the International Air Transport Association (IATA), as used in all of the major airline reservation systems—OR—when there is no IATA code for an origin airport/point—contact the BTS/Office of Airline Information, and one will be assigned.
7 | Destination Airport | 3 | Character | The three letter code identifying the airport. The airport codes are recognized by the International Air Transport Association (IATA), as used in all of the major airline reservation systems—OR—when there is no IATA code for the destination airport/point—contact the BTS/Office of Airline Information, and one will be assigned.
8 | Service Class | 1 | Character | The Service Class Code refers to the class of service used. F—Scheduled Passenger/Cargo Service; G—Scheduled All Cargo Service; L—Non-Scheduled Civilian Passenger/Cargo Service; P—Non-Scheduled Civilian All Cargo Service; N—Non-Scheduled Military Passenger/Cargo Service; R—Non-Scheduled Military All Cargo Service.
9 | Market Passengers | Up to 7 | Numeric | Number of Passengers originating (enplaning) the flight at the origin airport and terminating (deplaning) the flight at the destination airport.
10 | Market Freight | Up to 7 | Numeric | Amount of Freight—in pounds—originating (enplaning) the flight at the origin airport and terminating (deplaning) the flight at the destination airport.

Comments are requested concerning whether (a) the continuation of T-100 is necessary for DOT to carry out its mission of promoting air transportation; (b) BTS is accurately estimating the reporting burden; (c) are there other ways to enhance the quality, use and clarity of the data collected; and (d) are there additional ways to minimize reporting burden, including the use of automated collection techniques or other forms of information technology.

The Confidential Information Protection and Statistical Efficiency Act of 2002 (44 U.S.C. 3501 note), requires a statistical agency to clearly identify information it collects for non-statistical purposes. BTS hereby notifies the respondents and the public that BTS uses the T-100 traffic information it collects for non-statistical purposes including, but not limited to, publication of both Respondent's identity and its data, submission of the information to USPS and other agencies outside BTS for review, analysis and possible use in regulatory and other administrative matters.

Issued in Washington, DC, on October 6, 2004.
Donald W. Bright,
Assistant Director, Airline Information, Bureau of Transportation Statistics.

[FR Doc. 04-23089 Filed 10-13-04; 8:45 am]

BILLING CODE 4910-62-P